DEPARTMENT OF THE INTERIOR

National Park Service

Notice of Inventory Completion: Phoebe A. Hearst Museum of Anthropology, University of California, Berkeley, Berkeley, CA

AGENCY: National Park Service, Interior.

ACTION: Notice.

Notice is here given in accordance with the Native American Graves Protection and Repatriation Act (NAGPRA), 25 U.S.C. 3003, of the completion of an inventory of human remains and associated funerary objects in the possession of the Phoebe A. Hearst Museum of Anthropology, University of California, Berkeley, Berkeley, CA. The human remains and associated funerary objects were removed from an unknown site near “New Dungeness,” WA.

This notice is published as part of the National Park Service’s administrative responsibilities under NAGPRA, 25 U.S.C. 3003 (d)(3). The determinations within this notice are the sole responsibility of the museum, institution, or Federal agency that has control of the Native American human remains and associated funerary objects. The National Park Service is not responsible for the determinations within this notice.

An assessment of the human remains, and catalog records and associated documents relevant to the human remains, was made by Phoebe A. Hearst Museum of Anthropology professional staff in consultation with representatives of the Jamestown S’Klallam Tribe of Washington; Lower Elwah Tribal Community of the Lower Elwah Reservation, Washington; Port Gamble Indian Community of the Port Gamble Reservation, Washington; and Skokomish Indian Tribe of the Skokomish Reservation, Washington.

Around 1880, human remains representing at least one individual were removed from an unknown site “Near New Dungeness [WA], North Pacific Coast,” according to catalog records, by an unknown individual. The human remains were labeled “Clallam.” In 1903, the human remains were donated to the Phoebe A. Hearst Museum by John W. Stillman, through the University of California Museum of Paleontology. No known individual was identified. No associated funerary objects are present.

Based on museum records, the human remains are identified as being Native American. The degree of preservation, based on appearance, indicates that the human remains date to the last several hundred years. Based on geographical location, the human remains are determined to be culturally affiliated with the Jamestown S’Klallam Tribe of Washington; Lower Elwah Tribal Community of the Lower Elwah Reservation, Washington; Port Gamble Indian Community of the Port Gamble Reservation, Washington; and Skokomish Indian Tribe of the Skokomish Reservation, Washington.

Officials of the Phoebe A. Hearst Museum of Anthropology have determined that, pursuant to 25 U.S.C. 3001 (9-10), the human remains described above represent the physical remains of at least one individual of Native American ancestry. Officials of the Phoebe A. Hearst Museum of Anthropology also have determined that, pursuant to 25 U.S.C. 3001(2), there is a relationship of shared group identity that can be reasonably traced between the Native American human remains and the Jamestown S’Klallam Tribe of Washington; Lower Elwah Tribal Community of the Lower Elwah Reservation, Washington; Port Gamble Indian Community of the Port Gamble Reservation, Washington; and Skokomish Indian Tribe of the Skokomish Reservation, Washington.

Representatives of any other Indian tribe that believes itself to be culturally affiliated with the human remains should contact C. Richard Hitchcock, NAGPRA Coordinator, Phoebe A. Hearst Museum of Anthropology, University of California, Berkeley, Berkeley, CA 94720, telephone (510) 642-6096, before August 8, 2003. Repatriation of the human remains to the Jamestown S’Klallam Tribe of Washington; Lower Elwah Tribal Community of the Lower Elwah Reservation, Washington; Port Gamble Indian Community of the Port Gamble Reservation, Washington; and Skokomish Indian Tribe of the Skokomish Reservation, Washington may proceed after that date if no additional claimants come forward.

The Phoebe A. Hearst Museum of Anthropology is responsible for notifying the Jamestown S’Klallam Tribe of Washington; Lower Elwah Tribal Community of the Lower Elwah Reservation, Washington; Port Gamble Indian Community of the Port Gamble Reservation, Washington; and Skokomish Indian Tribe of the Skokomish Reservation, Washington that this notice has been published.

Dated: June 11, 2003.
John Robbins,
Assistant Director, Cultural Resources.

[FR Doc. 03-17270 Filed 7-8-03; 8:45 am]

BILLING CODE 4310-70-S